DEPARTMENT OF THE INTERIOR

National Park Service

Notice of a Meeting for Denali National Park Subsistence Resource Commission

AGENCY: National Park Service, Interior.

ACTION: Notice of a meeting for Denali National Park Subsistence Resource Commission.

SUMMARY: The Denali National Park Subsistence Resource Commission (SRC) will meet to develop and continue work on National Park Service (NPS) subsistence hunting program recommendations and other related subsistence management issues. This meeting is open to the public and will have time allocated for public testimony. The public is welcomed to present written or oral comments to the SRC. This meeting will be recorded and meeting minutes will be available upon request from the park superintendent for public inspection approximately six weeks after each meeting. The NPS subsistence resource commission program is authorized under Title VIII, Section 808 of the Alaska National Interest Lands Conservation Act, Public Law 96-487, to operate in accordance with the provisions of the Federal Advisory Committee Act.

FOR FURTHER INFORMATION CONTACT: Amy Craver, Subsistence Manager, (907) 683-9544 or Philip Hooge, Assistant Superintendent, (907) 683-959561. Address: Denali National Park and Preserve, P.O. Box 9, Denali Park, AK 99755.

Proposed Meeting Date: The SRC meeting will be held on Friday, October 17, 2008, from 9 a.m. to 5 p.m.

Location: Denali National Park Headquarters, Murie Science and Learning Center, Denali Park, AK.

The proposed SRC meeting agenda includes the following:

1. Call to order.

2. SRC Roll Call and Confirmation of Quorum.

3. SRC Chair and Superintendent's Welcome and Introductions.

4. Approval of Minutes from Last SRC Meeting.

5. Review and Approve Agenda.

6. Status of SRC Membership and Charter.

7. Election of Chair and Vice Chair (New charter requires annual elections).

8. SRC Member Reports.

9. Park Subsistence Manager Report.

a. Moose Hide Boat Project Update.

b. NPS Funded Subsistence Projects.

10. Denali National Park and Preserve Staff Reports.

a. Resource Management Report.

b. Cantwell ORV Traditional Use Area Update.

c. Status NPS EA for Use of Horns and Antlers.

d. Shallow Lakes Project.

e. Subsistence Replacement Trapping Cabins EA.

f. Ranger Division Update.

g. Wildlife Biologist Report—Status of Wildlife Surveys.

h. Alaska Board of Game Update.

i. Federal Subsistence Board Update.

11. October 2007 SRC Chairs Workshop Report.

12. New Business.

13. Public and Other Agency Comments.

14. SRC Work Session.

15. Set Time and Place for Next SRC Meeting.

16. Adjournment.

SUPPLEMENTARY INFORMATION: SRC meeting location and date may need to be changed based on weather or local circumstances. If meeting date and location are changed, a notice will be published in local newspapers and announced on local radio stations prior to the meeting date. The meeting may end early if all business is completed.

Dated: August 28, 2008.
Victor Knox,
Deputy Regional Director.

[FR Doc. E8-21271 Filed 9-11-08; 8:45 am]

BILLING CODE 4310-PF-P